NUCLEAR REGULATORY COMMISSION

[Docket No. 70-3103-ML; ASLBP No. 04-826-01-ML]

Louisiana Energy Services, L.P.; Establishment of Atomic Safety and Licensing Board

Pursuant to delegation by the Commission dated December 29, 1972, published in the Federal Register, 37 FR 28710 (1972), and the Commission's regulations, see 10 CFR 2.104, 2.300, 2.303, 2.309, 2.311, 2.318, and 2.321, notice is hereby given that an Atomic Safety and Licensing Board is being established to preside over the following proceeding:

Louisiana Energy Services, L.P. (National Enrichment Facility)

The Licensing Board is being established pursuant to a January 30, 2004, notice of hearing (CLI-04-08, 59 NRC 10(2004); (69 FR 5873 (Feb. 6, 2004))). The hearing will consider (1) a December 15, 2003, license application submitted by Louisiana Energy Services, L.P., to possess and use source, byproduct, and special nuclear material and to enrich natural uranium to a maximum of five percent U-235 by the gas centrifuge process at a facility located in Eunice, New Mexico, and (2) intervention petitions contesting the application submitted by the New Mexico Environment Department and the Attorney General of New Mexico on March 23, 2004, and April 5, 2004, respectively.

The Board is comprised of the following administrative judges:

G. Paul Bollwerk, III, Chair, Atomic Safety and Licensing Board Panel, U.S. Nuclear Regulatory Commission, Washington, DC 20555-0001;

Dr. Paul B. Abramson, Atomic Safety and Licensing Board Panel, U.S. Nuclear Regulatory Commission, Washington, DC 20555-0001;

Dr. Charles N. Kelber, Atomic Safety and Licensing Board Panel, U.S. Nuclear Regulatory Commission, Washington, DC 20555-0001.

All correspondence, documents, and other materials shall be filed with the administrative judges in accordance with 10 CFR 2.302.

Issued in Rockville, Maryland, this 15th day of April, 2004.
G. Paul Bollwerk, III,
Chief Administrative Judge, Atomic Safety and Licensing Board Panel.

[FR Doc. E4-912 Filed 4-22-04; 8:45 am]

BILLING CODE 7590-01-P